DEPARTMENT OF THE INTERIOR

Bureau of Indian Affairs

[201A2100DD/AAKC001030/A0A501010.999900253G]

Indian Gaming; Approval of Tribal-State Class III Gaming Compact Amendment in the State of Wisconsin

AGENCY: Bureau of Indian Affairs, Interior.

ACTION: Notice.

SUMMARY: The State of Wisconsin entered into a compact amendment with the Lac du Flambeau Band of Lake Superior Chippewa Indians of the Lac du Flambeau Reservation of Wisconsin governing certain forms of class III gaming; this notice announces the approval of the 2020 Amendment to the Lac du Flambeau Band of Lake Superior Chippewa Indians and State of Wisconsin Gaming Compact of 1992.

DATES: This amendment takes effect July 23, 2020.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and compact amendments are subject to review and approval by the Secretary. The Amendment increases the threshold amount for gaming related contracts that require Wisconsin Lottery Board approval and adjusts the credits the Tribe may claim against its revenue sharing payments in exchange for providing certain government services to Wisconsin residents.

Tara Sweeney,
Assistant Secretary—Indian Affairs.

[FR Doc. 2020-15974 Filed 7-22-20; 8:45 am]

BILLING CODE 4337-15-P